DEPARTMENT OF LABOR

Office of the Secretary

Submission for OMB Review: Comment Request

June 25, 2007.

The Department of Labor (DOL) has submitted the following public information collection requests (ICR) to the Office of Management and Budget (OMB) for review and approval in accordance with the Paperwork Reduction Act of 1995 (Pub. L. 104-13, 44 U.S.C. chapter 35). Copies of these ICRs, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Occupational Safety and Health Administration (OSHA), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Occupational Noise Exposure (29 CFR 1910.95).

OMB Number: 1218-0048.

Type of Response: Recordkeeping and third-party disclosure.

Affected Public: Public Sector: Business or other for-profits.

Number of Respondents: 379,512.

Number of Annual Responses: 16,610,221.

Estimated Time per Response: Varies from 2 minutes to notify employees when noise exposure exceeds the 8-hour time-weighted average of 85 decibels to 1 hour for employees in small establishments to take audiometric examinations.

Total Burden Hours: 2,853,730.

Total Annualized capital/startup costs: $0.

Total Annual Costs (operating/maintaining systems or purchasing services): $40,993,579.

Description: The purpose of the Occupational Noise Standard and its information collection requirements are to provide protection to employees from adverse health effects associated with occupational exposure to noise. The standard requires employers to establish and maintain accurate records of employee exposure to noise and audiometric testing performed in compliance with this standard.

Agency: Occupational Safety and Health Administration.

Type of Review: Extension without change of currently approved collection.

Title: Asbestos in General Industry (29 CFR 1910.1001).

OMB Number: 1218-0133.

Type of Response: Recordkeeping.

Affected Public: Public Sector: Business or other for-profits.

Number of Respondents: 243.

Number of Annual Responses: 65,048.

Estimated Time per Response: Varies from 5 minutes to maintain records to 1.5 hours for employees to receive training or medical evaluations.

Total Burden Hours: 23,849.

Total Annualized capital/startup costs: $0.

Total Annual Costs (operating/maintaining systems or purchasing services): $1,625,000.

Description: The Asbestos Standard requires employers to train employees about the hazards of asbestos, to monitor employee exposure, to provide medical surveillance, and to maintain accurate records of employee exposure to asbestos. These records are used by employers, employees, and the Government to ensure that employees are not harmed by exposure to asbestos in the workplace.

Agency: Occupational Safety and Health Administration.

Type of Review: Extension without change of currently approved collection.

Title: Construction Fall Protection Plans and Training Requirements (29 CFR 1926.502 and 1926.503).

OMB Number: 1218-0197.

Type of Response: Recordkeeping.

Affected Public: Public Sector: Business or other for-profits.

Number of Respondents: 301,178.

Number of Annual Responses: 6,039,818.

Estimated Time per Response: Time per response ranges from 5 minutes to certify a safety net to 1 hour to develop a fall protection plan.

Total Burden Hours: 484,082.

Total Annualized capital/startup costs: $0.

Total Annual Costs (operating/maintaining systems or purchasing services): $0.

Description: The Fall Protection Systems Criteria and Practices Standard (29 CFR 1926.502) allows employers to develop alternative procedures to conventional fall protection systems when the systems are infeasible or create a greater hazard. The alternative procedures (plan) must be written. Also, employers who use safety net systems may certify that the installation meets the Standard's criteria in lieu of performing a drop-test on the net. The Training Requirements Standard (29 CFR 1926.503) requires employers to prepare training certification records for their employees. The plan and certification records ensure that employers comply with the requirements to protect employees from falls.

Darrin A. King,
Acting Departmental Clearance Officer.

[FR Doc. E7-12522 Filed 6-27-07; 8:45 am]

BILLING CODE 4510-26-P